ENVIRONMENTAL PROTECTION AGENCY

[FRL-6731-1]

Technical Workshop on Issues Associated With Considering Developmental Changes in Behavior and Anatomy When Assessing Exposure to Children

AGENCY: U.S. Environmental Protection Agency.

ACTION: Notice of Meeting.

SUMMARY: EPA is announcing that ERG, a contractor to EPA's Risk Assessment Forum, is organizing, convening, and conducting a workshop for external scientific peer consultation on issues related to the assessment of childhood exposure. The workshop is being held to discuss issues associated with how to consider important developmental changes in behavior and anatomy when assessing the exposure of children to environmental contaminants.

DATES: The workshop will be held from 8:30 a.m. to 5 p.m. on Wednesday, July 26, 2000 and from 8 a.m. to 4 p.m. on Thursday, July 27, 2000.

ADDRESSES: The workshop will be held at the Holiday Inn on the Hill, 415 New Jersey Avenue, NW., Washington, DC. Eastern Research Group, Inc., an EPA contractor, will convene and facilitate the workshop. To register to attend the workshop as an observer, contact Eastern Research Group, Inc., Tel: (781) 674-7374, or visit their HomePage at http://www.erg.com/conf/epa.htm by July 19, 2000. Space is limited so please register early.

FOR FURTHER INFORMATION CONTACT: For further information concerning the workshop on age groups for assessing exposure to children please contact Steven Knott, U.S. EPA Office of Research and Development (8601-D), 1200 Pennsylvania Ave., NW., Washington, DC 20460, Telephone (202) 564-3359.

SUPPLEMENTARY INFORMATION: The 1993 National Academy of Sciences (NAS) report “Pesticides in the Diets of Infants and Children” highlights important differences between children and adults with respect to risks posed by pesticides. Some of the principles in the NAS report provided the foundation for the Food Quality Protection Act of 1996 (FQPA) and the President's Executive Order 13045, Protection of Children from Environmental Health Risks and Safety Risk. FQPA requires the consideration of aggregate exposure to children when establishing pesticide tolerances (legal limits for residues in food). Executive Order 13045 broadens consideration of impacts on children by stating that “each Federal agency: shall ensure that its policies, programs, activities, and standards address disproportionate risks to children that result from environmental health risks or safety risks.” Many of the comments the EPA received on the Proposed Guidelines for Carcinogen Risk Assessment relate to the implementation of Executive Order 13045. In response to these comments and regulatory initiatives, EPA has been investigating ways to improve Agency risk assessments for children.

An Agency workgroup convened under the auspices of the Risk Assessment Forum has been exploring children's exposure assessment issues. This workgroup has concluded that a major issue facing Agency assessors is how to consider age related changes in behavior and physiology when preparing exposure assessments for children. Children's behavior changes over time in ways that can have an important impact on exposure. Further, children's physiology changes over time in ways that can impact both their exposures and their susceptibility to certain health effects. There are two aspects to these physiological changes. First, there are anatomical changes resulting from physical growth. Second, there are changes in pharmacokinetics and pharmacodynamics which affect the absorption, distribution, excretion and effects of environmental contaminants. The Agency is examining the pharmacokinetic/pharmacodynamic changes in children through other efforts and future meetings on this topic are anticipated. This ERG hosted workshop will focus on incorporating age related changes in behavior and anatomy into Agency exposure assessments.

Dated: June 29, 2000.
George W. Alapas,
Acting Director, National Center for Environmental Assessment.

[FR Doc. 00-17189 Filed 7-6-00; 8:45 am]

BILLING CODE 6560-50-P